DEPARTMENT OF AGRICULTURE

Agricultural Marketing Service

[Docket Number FV-04-301]

United States Standards for Grades of Greenhouse Tomatoes

AGENCY: Agricultural Marketing Service, USDA.

ACTION: Notice.

SUMMARY: The Agricultural Marketing Service (AMS) of the Department of Agriculture (USDA) is soliciting comments on its proposal to revise the United States Standards for Grades of Greenhouse Tomatoes. AMS is proposing to revise the standards to allow that percentages of defects and size classifications be determined by count rather than weight. This would result in a revision of the following sections of the standards: Tolerances, Size Classification, Standard Pack, Damage, and Serious Damage sections. Additionally, AMS is proposing to delete the “Unclassified” section, add moldy stems as a damage defect, and add a scoring guide for damage and serious damage for skin checks. The proposed revisions would bring the standards for greenhouse tomatoes in line with current marketing practices, thereby improving their usefulness in serving the industry.

DATES: Comments must be received by July 31, 2006.

ADDRESSES: Interested persons are invited to submit written comments to the Standardization Section, Fresh Products Branch, Fruit and Vegetable Programs, Agricultural Marketing Service, U.S. Department of Agriculture, 1400 Independence Ave., SW., Room 1661 South Building, Stop 0240, Washington, DC 20250-0240; Fax (202) 720-8871, E-mail FPB.DocketClerk@usda.gov. Comments should make reference to the dates and page number of this issue of the Federal Register and will be made available for public inspection in the above office during regular business hours.

The proposed United States Standards for Grades of Greenhouse Tomatoes are available either through the address cited above or by accessing the AMS, Fresh Products Branch Web site at: http://www.ams.usda.gov/fv/fpbdocketlist.htm.

FOR FURTHER INFORMATION CONTACT: Cheri L. Emery, at the above address or call (202) 720-2185, E-mail Cheri.Emery@usda.gov.

SUPPLEMENTARY INFORMATION: Section 203(c) of the Agricultural Marketing Act of 1946 (7 U.S.C. 1621-1627), as amended, directs and authorizes the Secretary of Agriculture “To develop and improve standards of quality, condition, quantity, grade and packaging and recommend and demonstrate such standards in order to encourage uniformity and consistency in commercial practices.” AMS is committed to carrying out this authority in a manner that facilitates the marketing of agricultural commodities and makes copies of official standards available upon request. The United States Standards for Grades of Fruits and Vegetables not connected with Federal Marketing Orders or U.S. Import Requirements no longer appear in the Code of Federal Regulations, but are maintained by USDA/AMS/Fruit and Vegetable Programs.

AMS is proposing to revise the voluntary United States Standards for Grades of Greenhouse Tomatoes using procedures that appear in part 36, Title 7 of the Code of Federal Regulations (7 CFR part 36). These standards were last revised in 1966.

Background

Prior to undertaking research and other work associated with revision of the grade standards, AMS published a notice in the Federal Register (68 FR 68859) on December 10, 2003, soliciting comments on the possible revision of the United States Standards for Grades of Greenhouse Tomatoes. In response to this notice, a comment was received from an international industry group asking for an extension of the comment period. Following a review of the request AMS published a notice in the Federal Register (69 FR 12299) on March 16, 2004, extending the comment period from February 9, 2004, to March 31, 2004.

Further, after the comment period, AMS prepared a discussion draft of the proposed greenhouse tomato standard, and distributed copies for input to all commenters, industry associations, and other interested persons. As a result, we are adding a scoring guide for damage and serious damage by skin checks and including moldy stems as a damage defect.

In response to our request for comments, AMS received seven comments on the possible revisions. Two from domestic trade organizations, two from international trade organizations, two from foreign trade organizations, and one from a foreign government agency. The comments are available by accessing the AMS, Fresh Products Branch Web site at: http://www.ams.usda.gov/fv/fpbdocketlist.htm.

Four comments were in favor of the revisions to allow that percentages of defects and size classifications be determined by count rather than weight, stating the proposed change would significantly increase the speed of the inspection process while not changing the integrity of the inspection.

AMS received one comment specifically requesting a subsection for Tomatoes on the Vine (TOV) in the Greenhouse Tomato Standard. Three comments asked to include information to make the standards more useful to other types of greenhouse tomatoes and TOV. Based on these comments, we believe that it is preferable to address this issue by the development of a new standard for TOV.

AMS received two comments requesting a standard definition as to what represents a greenhouse tomato, and four comments that were opposed to including such a definition. The commenters opposed to defining “greenhouse tomatoes” stated that a strict definition would limit some growers from producing or marketing their product. Historically, the industry has been able to market this product without such a definition in the standards. Accordingly, AMS has decided not to take further action concerning the definition.

AMS received four comments requesting that destination tolerances be reviewed. However, no specific change was requested. Accordingly, the tolerances will remain unchanged.

AMS received four comments expressing concerns with changing to a size classification based on a diameter calculation due to the variations in the shape of the varieties. They requested using a count basis for determining size. AMS is proposing to revise the size classification section to add that the size of tomatoes may be specified by count per container, or in accordance with the defined diameter specifications. Because of the change from weight to count, AMS is also proposing to change the size designations from ounces to diameter, define the minimum and maximum diameter in inches of a small tomato to mean 2 4/32 to 2 9/32, a medium tomato to mean 2 8/32 to 2 17/32, a large tomato to mean 2 16/32 to 2 25/32, and an extra large tomato to mean 2 24/32 and larger, and add a definition for minimum and maximum diameter.

The proposed revisions will result in a modification of the following four sections of the standards: The tolerance section will change from weight to count. The standard pack section would be revised to base the “standard pack” on marked count by defining “Fairly uniform in size” as: “not more than 10 percent, by count, of the tomatoes in any container may vary more than ½ inch in diameter.” The damage section will be revised to include that all references to area, aggregate area, length, or aggregate length definitions are based on a 2½ inch in diameter tomato. The damage by catfaces scoring guide will be changed to ½ inch aggregate area based on a tomato 2½ inches in diameter. The serious damage section will also be revised to include references to area, aggregate area, length, or aggregate are based on a 2½ inch in diameter tomato. The serious damage by catfaces scoring guide will be changed to 1 inch aggregate area based on a tomato 2½ inches in diameter.

Based upon input from industry, AMS is proposing to add a scoring guide for damage and serious damage by skin checks. Damage will be defined as, “when the appearance of the tomato is affected to a greater extent than that of a tomato 2½ inches in diameter having skin checks which has an aggregate area equivalent to that of a circle three-eighths inch in diameter.” Serious damage will be defined as, “when the appearance of the tomato is affected to a greater extent than that of a tomato 2½ inches in diameter having skin checks which has an aggregate area equivalent to that of a circle five-eighths inch in diameter.” In addition, AMS is also proposing to add moldy stems as a damage defect in the requirements for a U.S. No. 1.

Finally, AMS is proposing to eliminate the “Unclassified” category. This section is being removed in all standards when they are revised. The category is not a grade and only serves to show that no grade has been applied to the lot.

The official grade of a lot of greenhouse tomatoes covered by these standards is determined by the procedures set forth in the Regulations Governing Inspection, Certification, and Standards of Fresh Fruits, Vegetables and Other Products (Sec. 51.1 to 51.61).

This notice provides a 60-day comment period for interested parties to comment on the proposed changes to the standard.

Authority: 7 U.S.C. 1621-1627.

Dated: May 25, 2006.
Lloyd C. Day,
Administrator, Agricultural Marketing Service.

[FR Doc. E6-8375 Filed 5-30-06; 8:45 am]

BILLING CODE 3410-02-P